DEPARTMENT OF ENERGY

Environmental Management Site-Specific Advisory Board, Sandia

AGENCY: Department of Energy.

ACTION: Notice of Open Meeting.

SUMMARY: Pursuant to the provisions of the Federal Advisory Committee Act (Pub. L. No. 92-463, 86 Stat. 770) notice is hereby given of the following Advisory Committee meeting: Environmental Management Site-Specific Advisory Board (EM-SSAB), Kirtland Area Office (Sandia)

DATES: Wednesday, March 15, 2000: 6:00 p.m.-9:00 p.m. (MST)

ADDRESSES: Barelas Senior Citizens Center 714 7th Street, SW Albuquerque, NM 87102

FOR FURTHER INFORMATION CONTACT: Mike Zamorski, Acting Manager, Department of Energy Kirtland Area Office, P.O. Box 5400, MS-0184, Albuquerque, NM 87185 (505) 845-4094.

SUPPLEMENTARY INFORMATION: Purpose of the Board: The purpose of the Board is to make recommendations to DOE and its regulators in the areas of environmental restoration, waste management, and related activities.

Tentative Agenda:

6:00 p.m. Check-In/Agenda Approval/Minutes

6:15 p.m. Updates: Contractor Mixed Waste Landfill (MWLF) and No Further Action (NFA) Items

6:30 p.m. Site Status—Road Map of Environmental Restoration Sites

6:45 p.m. Transition Plan

7:15 p.m. Public Comment

7:30 p.m. Break

7:45 p.m. Task Group Updates/Comment on Sierra Club Presentation/ Stewardship Task Group/Idaho Chairs Conference/Evaluation of Coordinating Council

8:15 p.m. Discussion of Concept and Terms

8:45 p.m. Adjourn

Public Participation: The meeting is open to the public. Written statements may be filed with the Committee either before or after the meeting. Individuals who wish to make oral statements pertaining to agenda items should contact Mike Zamorski's office at the address or telephone number listed above. Requests must be received 5 days prior to the meeting and reasonable provision will be made to include the presentation in the agenda. The Deputy Designated Federal Officer is empowered to conduct the meeting in a fashion that will facilitate the orderly conduct of business. Each individual wishing to make public comment will be provided a maximum of 5 minutes to present their comments. This notice is being published less than 15 days before the date of the meeting due to programmatic issues that had to be resolved prior to publication.

Minutes: The minutes of this meeting will be available for public review and copying at the Freedom of Information Public Reading Room, 1E-190, Forrestal Building, 1000 Independence Avenue, SW, Washington, DC 20585 between 9:00 a.m. and 4 p.m., Monday-Friday, except Federal holidays. Minutes will also be available by writing to Mike Zamorski, Manager, Department of Energy Kirtland Area Office, P.O. Box 5400, MS-0184, Albuquerque, NM 87185, or by calling (505) 845-4094.

Issued at Washington, DC on February 28, 2000.
Rachel Samuel,
Deputy Advisory Committee Management Officer.

[FR Doc. 00-5167 Filed 3-2-00; 8:45 am]

BILLING CODE 6450-01-P